NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 8, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Army, Agency-wide (N1-AU-09-5, 1 item, 1 temporary item). Master files of an electronic information system that contains college transcript data, such as course descriptions, test scores, and credit recommendations.

2. Department of the Army, Agency-wide (N1-AU-09-21, 1 item, 1 temporary item). Master files of an electronic information system used to simulate battlefield situations for training purposes.

3. Department of the Army, Agency-wide (N1-AU-09-22, 1 item, 1 temporary item). Master files of an electronic information system used to develop training products and publications.

4. Department of the Army, Agency-wide (N1-AU-09-27, 1 item, 1 temporary item). Master files of an electronic information system used to track information concerning supplies and equipment issued during training exercises.

5. Department of the Army, Agency-wide (N1-AU-09-33, 1 item, 1 temporary item). Master files of an electronic information system that contains information on training products and services, such as training plans, requirements, and lists of resources.

6. Department of Education, Office of Management (N1-441-08-11, 2 items, 2 temporary items). Records pertaining to the calculation, dissemination, and appeal of cohort default rates relating to Federal student aid loans. Master files of an electronic information system relating to challenges and appeals are included.

7. Department of Homeland Security, Office of Health Affairs (N1-563-08-18, 2 items, 2 temporary items). Master files and outputs associated with an electronic information system containing intelligence data and open source news information analyzed to identify pre-operational planning for terrorism and other events involving biological threats.

8. Department of Justice, Justice Management Division (N1-60-09-14, 2 items, 2 temporary items). Master files and outputs for a closed circuit television system used to monitor interior and exterior areas of the agency's main building in Washington, DC.

9. Department of Justice, Bureau of Prisons (N1-129-09-19, 1 item, 1 temporary item). Electronic database containing staffing and personnel information used for workplace planning, including such information as employment history, career preference, education, training, and language skills.

10. Department of Labor, Office of Inspector General (N1-174-09-1, 1 item, 1 temporary item). Master files of an electronic information system that contains electronic mail messages received or sent by regional and resident Inspector General offices.

11. Department of State, Bureau of Consular Affairs (N1-59-09-25, 1 item, 1 temporary item). Master files of an electronic information system used to track and monitor applications for visas from foreign nations for official U.S. Government travelers.

12. Department of State, Bureau of Diplomatic Security (N1-59-09-17, 1 item, 1 temporary item). Master files of an electronic information system used to track employees' work schedules and special assignments.

13. Department of State, Bureau of Overseas Buildings Operations (N1-59-09-24, 2 items, 2 temporary items). Master files and outputs of an electronic information system which contains data on contracts, budget matters, maintenance, and operations associated with overseas facilities and other real estate.

14. Department of State, Bureau of Overseas Buildings Operations (N1-59-09-26, 2 items, 2 temporary items). Master files and outputs of an electronic information system which contains data concerning such matters as funding of facilities maintenance projects, installation of fire equipment, furniture shipments, and other facilities-related activities.

15. Department of State, Bureau of Overseas Buildings Operations (N1-59-09-27, 2 items, 2 temporary items). Master files and outputs of an electronic information system which contains environmental data concerning overseas buildings owned or leased by the agency. Records include water quality data, indoor air quality measurements, asbestos-related data, and similar information.

16. Department of the Treasury, Internal Revenue Service (N1-58-09-12, 2 items, 2 temporary items). Inputs and master files of an electronic information system used to ensure that employers accurately report wage data to the agency and to the Social Security Administration.

17. Department of the Treasury, Internal Revenue Service (N1-58-09-13, 2 items, 2 temporary items). Inputs and master files of an electronic information system used to identify non-filers and late filers so as to ensure compliance. This data is also used for compliance research.

18. Environmental Protection Agency, Agency-wide (N1-412-09-7, 1 item, 1 temporary item). Electronic data maintained in laboratory information management systems that are used to receive, store and report data generated from laboratory analysis of environmental samples using scientific instruments. Data elements can include sample data and metadata (e.g., who took the sample and where, what was asked to be analyzed, who analyzed the sample, and when).

19. Environmental Protection Agency, Agency-wide (N1-412-09-8, 1 item, 1 temporary item). Electronic data copied or downloaded from other information systems at specific intervals and maintained in data marts and data warehouses in order to provide easy access and facilitate analysis and reporting. The offices responsible for the individual systems from which the data marts and warehouses copy or download their data manage their system data under specific schedules governing their disposition.

20. Nuclear Regulatory Commission, Office of Nuclear Regulatory Research (N1-431-08-21, 4 items, 2 temporary items). Interim system documentation and status reports posted on the agency's public website relating to significant safety issues at nuclear facilities. Master files and formal reports relating to these issues are proposed for permanent retention.

21. Securities and Exchange Commission, Office of the Chief Accountant (N1-266-09-2, 3 items, 1 temporary item). Correspondence, memorandums, and e-mail messages relating to the preparation of congressionally mandated studies. Final reports and working papers are proposed for permanent retention.

Dated: May 29, 2009.
Michael J. Kurtz,
Assistant Archivist for Records Services—Washington, DC.

[FR Doc. E9-13348 Filed 6-5-09; 8:45 am]

BILLING CODE 7515-01-P